DEPARTMENT OF DEFENSE

Department of the Army, Corps of Engineers

Notice of NEPA Public Scoping Meeting Information for the Great Lakes and Mississippi River Interbasin Study (“GLMRIS”)

AGENCY: Department of the Army, U.S. Army Corps of Engineers, DoD.

ACTION: Notice.

SUMMARY: In a November 16, 2010, Federal Register Notice (75 FR 69983), the U.S. Army Corps of Engineers (USACE), Chicago District announced in a notice of intent that it will prepare a feasibility report and an environmental impact statement (EIS) for GLMRIS, and it will host a public scoping meeting in Chicago, Illinois, on December 15, 2010. In a December 8, 2010, Federal Register Notice (75 FR 76447), USACE announced the metropolitan locations where USACE would be hosting nine (9) additional public scoping meetings for GLMRIS. The December 8, 2010, notice did not include specific meeting details. This notice announces the venues, dates and times of these nine (9) public scoping meetings and also announces USACE's intent to host two (2) additional public scoping meetings in Milwaukee, Wisconsin and New Orleans, Louisiana.

USACE, in consultation with other federal agencies, Native American tribes, state agencies, local governments and non-governmental organizations, is conducting a feasibility study of the options and technologies that could be applied to prevent aquatic nuisance species (ANS) transfer between the Great Lakes and Mississippi River basins through aquatic pathways.

DATES: Until March 31, 2011, USACE will be accepting public comments on the scope of GLMRIS. Please refer to the “Scoping and Public Involvement” section below for instructions on how to submit public comments, the dates of the upcoming public scoping meetings and other meeting information.

FOR FURTHER INFORMATION CONTACT: For further information and/or questions about GLMRIS, please contact USACE, Chicago District, Project Manager, Mr. David Wethington, by mail: USACE, Chicago District, 111 N. Canal, Suite 600, Chicago, IL 60606, or by e-mail: david.m.wethington@usace.army.mil.

For media inquiries, please contact the USACE, Chicago District, Public Affairs Officer, Ms. Lynne Whelan, by mail: USACE, Chicago District, 111 N. Canal, Suite 600, Chicago, IL 60606, by phone: (312) 846-5330 or by e-mail: lynne.e.whelan@usace.army.mil.

SUPPLEMENTARY INFORMATION: 1. Background. USACE, in consultation with other federal agencies, Native American tribes, state agencies, local governments and non-governmental organizations, is conducting GLMRIS. For GLMRIS, USACE will explore options and technologies, collectively known as ANS controls, that could be applied to prevent ANS transfer between the basins through aquatic pathways. Potential ANS controls may include, but are not limited to, hydrologic separation of the basins, waterway modifications, selective barriers, etc.

USACE will conduct a comprehensive analysis of ANS controls and will analyze the effects an ANS control or combination of ANS controls may have on current uses of: (1) The Chicago Area Waterway System (CAWS), the only known continuous aquatic pathway between the Great Lakes and Mississippi River basins; and (2) other aquatic pathways between these basins. For the CAWS, current waterway uses include, but are not limited to: Flood risk management; commercial and recreational navigation; recreation; water supply; hydropower; and conveyance of effluent from wastewater treatment plants and other industries. Additionally, this study will identify mitigation measures or alternative facilities necessary to offset and address impacted waterway uses and current significant natural resources.

USACE will conduct GLMRIS in accordance with NEPA and with the Economic and Environmental Principles and Guidelines for Water and Related Land Resource Implementation Studies, Water Resources Council, March 10, 1983.

2. Scoping and Public Involvement. USACE will accept comments related to GLMRIS until March 31, 2011. Note, USACE will only consider comments that disclose the first name, last name and zip code of the commenter.

All forms of comments received during the scoping period will be weighted equally. Using input obtained during the scoping period, USACE will refine the scope of GLMRIS to focus on significant issues, as well as eliminate issues that are not significant from further detailed study.

Comments may be submitted in the following ways:

• GLMRIS project Web site: Use the Web comment function found at http://www.glmris.anl.gov;

• NEPA Scoping Meeting: USACE is hosting scoping meetings and asks those who want to make oral comments to register on the GLMRIS project Web site at http://www.glmris.anl.gov. Those registering to make oral comments through the project Web site may be given a preference over those that register to make oral comments at the meeting. The on-line registration for each individual meeting will close one (1) day prior to that meeting date. Each individual wishing to make oral comments shall be given three (3) minutes, and a stenographer will document oral comments;

• Mail: Mail written comments to GLMRIS Scoping, 111 N. Canal, Suite 600, Chicago, IL 60606. Comments must be postmarked by March 31, 2011; and

• Hand Delivery: Comments may be hand delivered to the Chicago District, USACE office located at 111 N. Canal St., Suite 600, Chicago, IL 60606 between 8 a.m. and 4:30 p.m. Comments must be received by March 31, 2011.

At the scoping meetings, USACE will provide informational materials about the study's authorities and USACE study process. The meetings will begin with a presentation regarding the study followed by an oral comment period. During each meeting, USACE will also collect written comments on comment cards and computer terminals.

In addition to the meeting held on December 15, 2010, in Chicago, Illinois, USACE will host NEPA public scoping meetings from 2 p.m. to 8 p.m. at the following locations:

1. Tuesday, January 11, 2011: Buffalo Conference Center, 2 Fountain Plaza, Buffalo, NY.

2. Thursday, January 13, 2011: Great Lakes Science Center, 601 Erieside Avenue, Cleveland, OH.

3. Thursday, January 20, 2011: McNamara Alumni Center, University of Minnesota, 200 Oak Street, S.E., #35, Minneapolis, MN.

4. Tuesday, January 25, 2011: Northeast Wisconsin Technical College, 2740 West Mason Street, Green Bay, WI.

5. Thursday, January 27, 2011: The Hagerty Conference Center, NMC Great Lakes Campus, 715 E. Front Street, Traverse City, MI.

6. Tuesday, February 1, 2011: Tangeman University Center, University of Cincinnati, 2766 UC Main Street, Cincinnati, OH. For driving directions to the parking garage, please use “W. Corry St. at Jefferson Ave., Cincinnati, OH 45221” as your destination address. Continue west on W. Corry St. until you reach the CCM parking garage.

7. Thursday, February 3, 2011: Ann Arbor Marriott-Ypsilanti at Eagle Crest, 1275 South Huron Street, Ypsilanti, MI.

8. Tuesday, February 8, 2011: National Great Rivers Museum (Adjacent to Melvin Price Locks and Dam), #2 Locks and Dam Way, Alton, IL.

9. Thursday, February 10, 2011: Vicksburg Convention Center, 1600 Mulberry Street, Vicksburg, MS.

Please see the GLMRIS project Web site at http://www.glmris.anl.gov for driving directions, if you wish to register to make an oral comment at one of these meetings, and for more information regarding the meeting including a meeting agenda.

In addition to the above-listed locations, USACE is also planning to host NEPA public scoping meetings in Milwaukee, Wisconsin and New Orleans, Louisiana. Specific meeting places and dates will be announced in a subsequent Federal Register notice, the GLMRIS project Web site, electronic media and news releases.

Comments received during the scoping period will be posted on the GLMRIS project Web site and will become a part of the EIS. You may indicate that you do not wish to have your name or other personal information made available on the Web site. However, USACE cannot guarantee that information withheld from the Web site will be maintained as confidential. Requests for disclosure of collected information will be handled through the Freedom of Information Act. Comments and information, including the identity of the submitter, may be disclosed, reproduced, and distributed. Submissions should not include any information that the submitter seeks to preserve as confidential.

If you require assistance under the Americans with Disabilities Act, please contact Ms. Lynne Whelan via e-mail at lynne.e.whelan@usace.army.mil or phone at (312) 846-5330 at least seven (7) working days prior to the meeting to request arrangements.

3. Significant Issues. Issues associated with the proposed study are likely to include, but will not be limited to: Significant natural resources such as ecosystems and threatened and endangered species, commercial and recreational fisheries; current recreational uses of the lakes and waterways; ANS effects on water users; effects of potential ANS controls on current waterway uses such as flood risk management, commercial and recreational navigation, recreation, water supply, hydropower and conveyance of effluent from wastewater treatment plants and other industries; and statutory and legal responsibilities relative to the lakes and waterways.

4. Availability of the Draft Environmental Impact Statement. The date that the draft EIS will be made available is contingent upon sufficient allocation of funding for the study. Draft EIS availability will be announced to the public in the Federal Register in compliance with 40 CFR 1506.9 and 1506.10.

5. Authority. This action is being undertaken pursuant to the Water Resources and Development Act of 2007, Section 3061, Public Law 110-114, 121 STAT. 1121, and the National Environmental Policy Act of 1969, 42 U.S.C. 4321, et seq., as amended.

Dated: December 28, 2010.
Susanne J. Davis,
Chicago District, Corps of Engineers.

[FR Doc. 2010-33215 Filed 1-3-11; 8:45 am]

BILLING CODE 3720-58-P